DEPARTMENT OF COMMERCE

International Trade Administration

[A-549-833, A-301-803]

Citric Acid and Certain Citrate Salts From Thailand and Colombia: Final Results of the Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on citric acid and certain citrate salts (citric acid) from Thailand and Colombia would be likely to lead to continuation or recurrence of dumping at the level indicated in the “Final Results of Sunset Reviews” section of this notice.

DATES: Applicable September 29, 2023.

FOR FURTHER INFORMATION CONTACT: Deborah Cohen, AD/CVD Operations, Office III, Enforcement and Compliance, International Trade Administration, U.S. Department of Commerce, 1401 Constitution Avenue NW, Washington, DC 20230; telephone: (202) 482-4521.

SUPPLEMENTARY INFORMATION:

Background

On June 1, 2023, Commerce published the Initiation Notice of the sunset reviews of the AD orders on citric acid from Thailand and Colombia ¹ in the Federal Register pursuant to section 751(c) of the Tariff Act of 1930, as amended (the Act).² In accordance with 19 CFR 351.218(d)(1)(i) and (ii), Commerce received notices of intent to participate in these sunset reviews from Archer Daniels Midland Company, Cargill, Incorporated, and Primary Products Ingredients Americas LLC (collectively, the domestic interested parties) within 15 days after the date of publication of the Initiation Notice.³ The domestic interested parties claimed interested party status under section 771(9)(C) of the Act as producers of a domestic like product in the United States.⁴ Commerce timely-received an adequate substantive response to the Initiation Notice from the domestic interested parties within the 30-day period specified in 19 CFR 351.218(d)(3)(i).⁵ We did not receive substantive responses from any other interested parties. On July 25, 2023, Commerce notified the U.S. International Trade Commission (ITC) that it did not receive an adequate substantive response from other interested parties.⁶ As a result, in accordance with section 751(c)(3)(B) of the Act and 19 CFR 351.218(e)(1)(ii)(C)(2), Commerce conducted expedited, i.e., 120-day sunset reviews of the Orders.

¹ See Citric Acid and Certain Citrate Salts from Belgium, Colombia and Thailand: Antidumping Duty Orders, 83 FR 35214 (July 25, 2018) (Orders).

² See Initiation of Five-Year (Sunset) Reviews, 88 FR 35832 (June 1, 2023) (Initiation Notice).

³ See Domestic Interested Parties Letters, “Five Year (“Sunset”) Review of the Antidumping Duty Order on Citric Acid and Certain Citrate Salts from Colombia—Domestic Industry's Notice of Intent to Participate,” dated June 15, 2023; and “Five Year (“Sunset”) Review of the Antidumping Duty Order on Citric Acid and Certain Citrate Salts from Thailand—Domestic Industry's Notice of Intent to Participate,” dated June 15, 2023.

⁴ Id.

⁵ See Domestic Interested Party's Letters, “Five Year (“Sunset”) Review of the Antidumping Duty Order on Citric Acid and Certain Citrate Salts from Colombia—Domestic Interested Party's Substantive Response,” dated June 30, 2023; and “Five Year (“Sunset”) Review of the Antidumping Duty Order on Citric Acid and Certain Citrate Salts from Thailand—Domestic Interested Party's Substantive Response,” dated June 30, 2023.

⁶ See Commerce's Letter, “Sunset Reviews Initiated on June 1, 2023,” dated July 25, 2023.

Scope of the Orders

The merchandise covered by the Orders includes all grades and granulation sizes of citric acid, sodium citrate, and potassium citrate in their unblended forms, whether dry or in solution, and regardless of packaging type. For a full description of the scope of the Orders, see the Issues and Decision Memorandum.⁷

⁷ See Memorandum, “Issues and Decision Memorandum for the Final Results of the Expedited First Sunset Reviews of the Antidumping Duty Orders on Citric Acid and Certain Citrate Salts from Thailand and Colombia,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if the Orders were revoked. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c)(1) and 752(c)(1) and (3) of the Act, Commerce determines that revocation of the Orders would be likely to lead to continuation or recurrence of dumping and that the magnitude of the margins of dumping likely to prevail would be at rates up to 28.48 percent for Colombia and 15.71 percent for Thailand.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

Commerce is issuing and publishing these final results and notice in accordance with sections 751(c), 752(c), and 777(i)(1) of the Act, and 19 CFR 351.221(c)(5)(ii).

Dated: September 22, 2023.
Lisa W. Wang,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of Margin of Dumping Likely to Prevail

VII. Final Results of Expedited Sunset Reviews

VIII. Recommendation

[FR Doc. 2023-21383 Filed 9-28-23; 8:45 am]

BILLING CODE 3510-DS-P